DEPARTMENT OF ENERGY

Office of Energy Efficiency and Renewable Energy

[Case No. CW-026]

Notice of Petition for Waiver of Whirlpool Corporation From the Department of Energy Clothes Washer Test Procedure, and Grant of Interim Waiver

AGENCY: Office of Energy Efficiency and Renewable Energy, Department of Energy.

ACTION: Notice of petition for waiver, notice of grant of interim waiver, and request for comments.

SUMMARY: This notice announces receipt of a petition for waiver from Whirlpool Corporation (Whirlpool) seeking an exemption from specified portions of the U.S. Department of Energy (DOE) test procedure for determining the energy consumption of residential clothes washers. Whirlpool seeks to use an alternate test procedure to address certain issues involved in testing certain specific basic clothes washer models identified in its petition that container volumes between 6.0 cubic feet and 8.0 cubic feet that Whirlpool contends cannot be accurately tested using the currently applicable DOE test procedure. DOE solicits comments, data, and information concerning Whirlpool's petition and its suggested alternate test procedure. This notice also grants Whirlpool with an interim waiver from the residential clothes washer test procedure, subject to use of the alternative test procedure set forth in this notice.

DATES: DOE will accept comments, data, and information with respect to the Whirlpool petition until January 15, 2016.

ADDRESSES: You may submit comments, identified by Case Number CW-026, by any of the following methods:

• Federal eRulemaking Portal: http://www.regulations.gov. Follow the instructions for submitting comments.

• Email: AS_Waiver_Requests@ee.doe.gov Include “Case No. CW-026” in the subject line of the message.

• Mail: Ms. Brenda Edwards, U.S. Department of Energy, Building Technologies Program, Mailstop EE-5B/1000 Independence Avenue SW., Washington, DC 20585-0121. Telephone: (202) 586-2945. Please submit one signed original paper copy.

• Hand Delivery/Courier: Ms. Brenda Edwards, U.S. Department of Energy, Building Technologies Program, 950 L'Enfant Plaza SW., Room 6094, Washington, DC 20024. Please submit one signed original paper copy.

Docket: For access to the docket to review the background documents relevant to this matter, you may visit the U.S. Department of Energy, 950 L'Enfant Plaza SW., Washington, DC, 20024; (202) 586-2945, between 9:00 a.m. and 4:00 p.m., Monday through Friday, except Federal holidays. Available documents include the following items: (1) This notice; (2) public comments received; (3) the petition for waiver and application for interim waiver; and (4) prior DOE waivers and rulemakings regarding similar clothes washer products. Please call Ms. Brenda Edwards at the above telephone number for additional information.

FOR FURTHER INFORMATION CONTACT: Mr. Bryan Berringer, U.S. Department of Energy, Building Technologies Program, Mail Stop EE-5B, Forrestal Building, 1000 Independence Avenue SW., Washington, DC 20585-0121. Telephone: (202) 586-0371. Email: Bryan.Berringer@ee.doe.gov.

Ms. Elizabeth Kohl, U.S. Department of Energy, Office of the General Counsel, Mail Stop GC-33, Forrestal Building, 1000 Independence Avenue SW., Washington, DC 20585-0103. Telephone: (202) 586-7796. Email: Elizabeth.Kohl@hq.doe.gov.

SUPPLEMENTARY INFORMATION:

I. Background and Authority

Title III, Part B of the Energy Policy and Conservation Act of 1975 (EPCA), Public Law 94-163 (42 U.S.C. 6291-6309, as codified), established the Energy Conservation Program for Consumer Products Other Than Automobiles, a program covering most major household appliances, which includes the clothes washers that are the focus of this notice. Part B includes definitions, test procedures, labeling provisions, energy conservation standards, and the authority to require information and reports from manufacturers. Further, Part B authorizes the Secretary of Energy to prescribe test procedures that are reasonably designed to produce results which measure energy efficiency, energy use, or estimated operating costs, and that are not unduly burdensome to conduct. (42 U.S.C. 6293(b)(3)). Part C of Title III provides for a similar energy efficiency program titled “Certain Industrial Equipment,” which includes commercial clothes washers and other types of commercial equipment.¹ (42 U.S.C. 6311-6317) The test procedure for automatic and semi-automatic clothes washers (both residential and commercial) is contained in 10 CFR part 430, subpart B, appendix J2.

¹ For editorial reasons, upon codification in the U.S. Code, Parts B and C were re-designated Parts A and A-1, respectively.

The regulations set forth in 10 CFR part 430.27 contain provisions that enable a person to seek a waiver from the test procedure requirements for covered products. DOE will grant a waiver if it is determined either that the basic models for which the petition for waiver was requested contains a design characteristics that prevents testing of the basic model according to the prescribed test procedures, or that prescribed test procedures evaluate the basic model in a manner so unrepresentative of its true energy consumption characteristics as to provide materially inaccurate comparative data. 10 CFR 430.27(f)(2). Petitioners must include in their petition any alternate test procedures known to the petitioner to evaluate the basic model in a manner representative of its energy consumption. DOE may grant the waiver subject to conditions, including adherence to alternate test procedures. 10 CFR 430.27(f)(2). Waivers remain in effect pursuant to the provisions of 10 CFR 430.27(l).

The waiver process also allows the DOE to grant an interim waiver from test procedure requirements to manufacturers that have petitioned DOE for a waiver of such prescribed test procedures. 10 CFR 430.27(e)(2). Within one year of issuance of an interim waiver, DOE will either: (i) Publish in the Federal Register a determination on the petition for waiver; or (ii) publish in the Federal Register a new or amended test procedure that addresses the issues presented in the waiver. 10 CFR 430.27(h)(1). When DOE amends the test procedure to address the issues presented in a waiver, the waiver will automatically terminate on the date on which use of that test procedure is required to demonstrate compliance. 10 CFR 430.27(h)(2).

II. Application for Interim Waiver and Petition for Waiver

On November 9, 2015, Whirlpool submitted a petition for waiver from the DOE test procedure applicable to automatic and semi-automatic clothes washers set forth in 10 CFR part 430, subpart B, appendix J2. Whirlpool requested the waiver because the mass of the test load used in the procedure, which is based on the basket volume of the test unit, is currently not defined for basket sizes greater than 6.0 cubic feet. In its petition, Whirlpool seeks a waiver for the specified basic models with capacities greater than 6.0 cubic feet. Table 5.1 of Appendix J2 defines the test load sizes used in the test procedure as linear functions of the basket volume. Whirlpool requests that DOE grant a waiver for testing and rating based on a revised Table 5.1.

Whirlpool also requests an interim waiver from the existing DOE test procedure. An interim waiver may be granted if it appears likely that the petition for waiver will be granted, and/or if DOE determines that it would be desirable for public policy reasons to grant immediate relief pending a determination of the petition for waiver. See 10 CFR 430.27(e)(2).

DOE understands that absent an interim waiver, Whirlpool's products cannot be tested and rated for energy consumption on a basis representative of their true energy consumption characteristics. DOE has reviewed the alternate procedure and concludes that it will allow for the accurate measurement of the energy use of these products, while alleviating the testing problems associated with Whirlpool's implementation of clothes washer containers larger than 6.0 cubic feet. Consequently, DOE has determined that Whirlpool's petition for waiver will likely be granted. Furthermore, as explained below, DOE has granted similar waivers to Whirlpool and other manufacturers, and has determined that it is desirable for public policy reasons to grant Whirlpool immediate relief pending a determination of the petition for waiver.

DOE granted a waiver to Whirlpool for a similar request under Decision and Order (75 FR 69653, Nov. 15, 2010) to allow for the testing of clothes washers with container volumes between 3.8 cubic feet and 6.0 cubic feet. In addition to the previous waiver granted to Whirlpool, DOE granted waivers to LG (CW-016 (76 FR 11233, Mar. 1, 2011), CW-018 (76 FR 21879, Apr. 19, 2011), and CW-021 (76 FR 64330, Oct. 18, 2011); General Electric (75 FR 76968, Dec. 10, 2010), Samsung (76 FR 13169, Mar. 10, 2011); 76 FR 50207, Aug. 12, 2011), and Electrolux (76 FR 11440, Mar. 2, 2011) to allow for the testing of clothes washers with container volumes between 3.8 cubic feet and 6.0 cubic feet. DOE concludes it is likely that Whirlpool's petition for waiver will be granted for the similar reasons stated in these past waivers.

The current DOE test procedure specifies test load sizes only for machines with capacities up to 6.0 cubic feet. (77 FR 13888, Mar. 7, 2012; the “March 2012 Final Rule”) For the reasons set forth in DOE's March 2012 Final Rule, DOE concludes that extending the linear relationship between test load size and container capacity to larger capacities is valid. In addition, testing a basic model with a capacity larger than 6.0 cubic feet using the current procedure could evaluate the basic model in a manner so unrepresentative of its true energy consumption as to provide materially inaccurate comparative data. Based on these considerations, and the waivers granted to LG, GE, Electrolux and Samsung, as well as the previous waivers granted to Whirlpool for similar requests, it appears likely that the petition for waiver will be granted. As a result, DOE grants an interim waiver to Whirlpool for the basic models of clothes washers with container volumes greater than 6.0 cubic feet specified in its petition for waiver. DOE also provides for the use of an alternative test procedure extending the linear relationship between test load size and container capacity, described below.

Therefore, it is ordered that:

The application for interim waiver filed by Whirlpool is hereby granted for the specified Whirlpool clothes washer basic models, subject to the specifications and conditions below. Whirlpool shall be required to test and rate the specified clothes washer products according to the alternate test procedure as set forth in section III, “Alternate Test Procedure.”

The interim waiver applies to the following basic residential model groups: Basic Model V15EAg50(3B), Basic Model V15EBg50(3B), Basic Model V15ECg50(3B).

DOE makes decisions on waivers and interim waivers for only those models specifically set out in the petition, not future models that may be manufactured by the petitioner. Whirlpool may request that DOE extend the scope of a waiver or an interim waiver to include additional basic models employing the same technology as the basic model(s) set forth in the original petition consistent with 10 CFR 430.27(g). In addition, granting of an interim waiver or waiver does not release a petitioner from the certification requirements set forth at 10 CFR part 429. See also 10 CFR 430.27(a) and (i).

Further, this interim waiver is conditioned upon the presumed validity of statements, representations, and documents provided by the petitioner. DOE may rescind or modify a waiver or interim waiver at any time upon a determination that the factual basis underlying the petition for waiver or interim waiver is incorrect, or upon a determination that the results from the alternate test procedure are unrepresentative of the basic models' true energy consumption characteristics. See 10 CFR 430.27(k).

III. Alternate Test Procedure

EPCA requires that manufacturers use DOE test procedures when making representations about the energy consumption and energy consumption costs of products covered by the statute. (42 U.S.C. 6293(c)) Consistent representations are important for manufacturers to use in making representations about the energy efficiency of their products and to demonstrate compliance with applicable DOE energy conservation standards. Pursuant to its regulations applicable to waivers and interim waivers from applicable test procedures at 10 CFR 430.27, DOE will consider setting an alternate test procedure for Whirlpool in a subsequent Decision and Order.

The alternate procedure approved today is intended to allow Whirlpool to make valid representations regarding its clothes washers with basket capacities larger than provided for in the current test procedure.

In the alternate test procedure described below, DOE has corrected two errors in the proposed Whirlpool load size table:

• For the 7.40-7.50 cubic foot capacity row, the maximum load size should be 30.60 lbs rather than 30.50 lbs, and the corresponding translation to kg should be 13.88 kg rather than 13.83 kg.

• For the 6.50-6.60 and higher capacities, the average load size was not calculated correctly. The average load size should be the numerical average of the minimum and maximum load sizes. For each of these, the corresponding translation to kg were updated.

During the period of the interim waiver granted in this notice, Whirlpool shall test its clothes washer basic models according to the provisions of 10 CFR part 430 subpart B, appendix J2, except that the expanded Table 5.1 below shall be substituted for Table 5.1 of appendix J2.

Table 5.1—Test Load Sizes
Container volume: cu. ft. ≥ < | Container volume: liter ≥ < | Minimum load: lb | Minimum load: kg | Maximum load: lb | Maximum load: kg | Average load: lb | Average load: kg
0-0.80 | 0-22.7 | 3.00 | 1.36 | 3.00 | 1.36 | 3.00 | 1.36
0.80-0.90 | 22.7-25.5 | 3.00 | 1.36 | 3.50 | 1.59 | 3.25 | 1.47
0.90-1.00 | 25.5-28.3 | 3.00 | 1.36 | 3.90 | 1.77 | 3.45 | 1.56
1.00-1.10 | 28.3-31.1 | 3.00 | 1.36 | 4.30 | 1.95 | 3.65 | 1.66
1.10-1.20 | 31.1-34.0 | 3.00 | 1.36 | 4.70 | 2.13 | 3.85 | 1.75
1.20-1.30 | 34.0-36.8 | 3.00 | 1.36 | 5.10 | 2.31 | 4.05 | 1.84
1.30-1.40 | 36.8-39.6 | 3.00 | 1.36 | 5.50 | 2.49 | 4.25 | 1.93
1.40-1.50 | 39.6-42.5 | 3.00 | 1.36 | 5.90 | 2.68 | 4.45 | 2.02
1.50-1.60 | 42.5-45.3 | 3.00 | 1.36 | 6.40 | 2.90 | 4.70 | 2.13
1.60-1.70 | 45.3-48.1 | 3.00 | 1.36 | 6.80 | 3.08 | 4.90 | 2.22
1.70-1.80 | 48.1-51.0 | 3.00 | 1.36 | 7.20 | 3.27 | 5.10 | 2.31
1.80-1.90 | 51.0-53.8 | 3.00 | 1.36 | 7.60 | 3.45 | 5.30 | 2.40
1.90-2.00 | 53.8-56.6 | 3.00 | 1.36 | 8.00 | 3.63 | 5.50 | 2.49
2.00-2.10 | 56.6-59.5 | 3.00 | 1.36 | 8.40 | 3.81 | 5.70 | 2.59
2.10-2.20 | 59.5-62.3 | 3.00 | 1.36 | 8.80 | 3.99 | 5.90 | 2.68
2.20-2.30 | 62.3-65.1 | 3.00 | 1.36 | 9.20 | 4.17 | 6.10 | 2.77
2.30-2.40 | 65.1-68.0 | 3.00 | 1.36 | 9.60 | 4.35 | 6.30 | 2.86
2.40-2.50 | 68.0-70.8 | 3.00 | 1.36 | 10.00 | 4.54 | 6.50 | 2.95
2.50-2.60 | 70.8-73.6 | 3.00 | 1.36 | 10.50 | 4.76 | 6.75 | 3.06
2.60-2.70 | 73.6-76.5 | 3.00 | 1.36 | 10.90 | 4.94 | 6.95 | 3.15
2.70-2.80 | 76.5-79.3 | 3.00 | 1.36 | 11.30 | 5.13 | 7.15 | 3.24
2.80-2.90 | 79.3-82.1 | 3.00 | 1.36 | 11.70 | 5.31 | 7.35 | 3.33
2.90-3.00 | 82.1-85.0 | 3.00 | 1.36 | 12.10 | 5.49 | 7.55 | 3.42
3.00-3.10 | 85.0-87.8 | 3.00 | 1.36 | 12.50 | 5.67 | 7.75 | 3.52
3.10-3.20 | 87.8-90.6 | 3.00 | 1.36 | 12.90 | 5.85 | 7.95 | 3.61
3.20-3.30 | 90.6-93.4 | 3.00 | 1.36 | 13.30 | 6.03 | 8.15 | 3.70
3.30-3.40 | 93.4-96.3 | 3.00 | 1.36 | 13.70 | 6.21 | 8.35 | 3.79
3.40-3.50 | 96.3-99.1 | 3.00 | 1.36 | 14.10 | 6.40 | 8.55 | 3.88
3.50-3.60 | 99.1-101.9 | 3.00 | 1.36 | 14.60 | 6.62 | 8.80 | 3.99
3.60-3.70 | 101.9-104.8 | 3.00 | 1.36 | 15.00 | 6.80 | 9.00 | 4.08
3.70-3.80 | 104.8-107.6 | 3.00 | 1.36 | 15.40 | 6.99 | 9.20 | 4.17
3.80-3.90 | 107.6-110.4 | 3.00 | 1.36 | 15.80 | 7.16 | 9.40 | 4.26
3.90-4.00 | 110.4-113.3 | 3.00 | 1.36 | 16.20 | 7.34 | 9.60 | 4.35
4.00-4.10 | 113.3-116.1 | 3.00 | 1.36 | 16.60 | 7.53 | 9.80 | 4.45
4.10-4.20 | 116.1-118.9 | 3.00 | 1.36 | 17.00 | 7.72 | 10.00 | 4.54
4.20-4.30 | 118.9-121.8 | 3.00 | 1.36 | 17.40 | 7.90 | 10.20 | 4.63
4.30-4.40 | 121.8-124.6 | 3.00 | 1.36 | 17.80 | 8.09 | 10.40 | 4.72
4.40-4.50 | 124.6-127.4 | 3.00 | 1.36 | 18.20 | 8.27 | 10.60 | 4.82
4.50-4.60 | 127.4-130.3 | 3.00 | 1.36 | 18.70 | 8.46 | 10.85 | 4.91
4.60-4.70 | 130.3-133.1 | 3.00 | 1.36 | 19.10 | 8.65 | 11.05 | 5.00
4.70-4.80 | 133.1-135.9 | 3.00 | 1.36 | 19.50 | 8.83 | 11.25 | 5.10
4.80-4.90 | 135.9-138.8 | 3.00 | 1.36 | 19.90 | 9.02 | 11.45 | 5.19
4.90-5.00 | 138.8-141.6 | 3.00 | 1.36 | 20.30 | 9.20 | 11.65 | 5.28
5.00-5.10 | 141.6-144.4 | 3.00 | 1.36 | 20.70 | 9.39 | 11.85 | 5.38
5.10-5.20 | 144.4-147.2 | 3.00 | 1.36 | 21.10 | 9.58 | 12.05 | 5.47
5.20-5.30 | 147.2-150.1 | 3.00 | 1.36 | 21.50 | 9.76 | 12.25 | 5.56
5.30-5.40 | 150.1-152.9 | 3.00 | 1.36 | 21.90 | 9.95 | 12.45 | 5.65
5.40-5.50 | 152.9-155.7 | 3.00 | 1.36 | 22.30 | 10.13 | 12.65 | 5.75
5.50-5.60 | 155.7-158.6 | 3.00 | 1.36 | 22.80 | 10.32 | 12.90 | 5.84
5.60-5.70 | 158.6-161.4 | 3.00 | 1.36 | 23.20 | 10.51 | 13.10 | 5.93
5.70-5.80 | 161.4-164.2 | 3.00 | 1.36 | 23.60 | 10.69 | 13.30 | 6.03
5.80-5.90 | 164.2-167.1 | 3.00 | 1.36 | 24.00 | 10.88 | 13.50 | 6.12
5.90-6.00 | 167.1-169.9 | 3.00 | 1.36 | 24.40 | 11.06 | 13.70 | 6.21
6.00-6.10 | 169.9-172.7 | 3.00 | 1.36 | 24.80 | 11.25 | 13.90 | 6.30
6.10-6.20 | 172.7-175.6 | 3.00 | 1.36 | 25.20 | 11.43 | 14.10 | 6.40
6.20-6.30 | 175.6-178.4 | 3.00 | 1.36 | 25.60 | 11.61 | 14.30 | 6.49
6.30-6.40 | 178.4-181.2 | 3.00 | 1.36 | 26.00 | 11.79 | 14.50 | 6.58
6.40-6.50 | 181.2-184.1 | 3.00 | 1.36 | 26.40 | 11.97 | 14.70 | 6.67
6.50-6.60 | 184.1-186.9 | 3.00 | 1.36 | 26.90 | 12.20 | 14.95 | 6.78
6.60-6.70 | 186.9-189.7 | 3.00 | 1.36 | 27.30 | 12.38 | 15.15 | 6.87
6.70-6.80 | 189.7-192.6 | 3.00 | 1.36 | 27.70 | 12.56 | 15.35 | 6.96
6.80-6.90 | 192.6-195.4 | 3.00 | 1.36 | 28.10 | 12.75 | 15.55 | 7.05
6.90-7.00 | 195.4-198.2 | 3.00 | 1.36 | 28.50 | 12.93 | 15.75 | 7.14
7.00-7.10 | 198.2-201.0 | 3.00 | 1.36 | 28.90 | 13.11 | 15.95 | 7.23
7.10-7.20 | 201.0-203.9 | 3.00 | 1.36 | 29.30 | 13.29 | 16.15 | 7.33
7.20-7.30 | 203.9-206.7 | 3.00 | 1.36 | 29.70 | 13.47 | 16.35 | 7.42
7.30-7.40 | 206.7-209.5 | 3.00 | 1.36 | 30.10 | 13.65 | 16.55 | 7.51
7.40-7.50 | 209.5-212.4 | 3.00 | 1.36 | 30.60 | 13.88 | 16.80 | 7.62
7.50-7.60 | 212.4-215.2 | 3.00 | 1.36 | 31.00 | 14.06 | 17.00 | 7.71
7.60-7.70 | 215.2-218.0 | 3.00 | 1.36 | 31.40 | 14.24 | 17.20 | 7.80
7.70-7.80 | 218.0-220.9 | 3.00 | 1.36 | 31.80 | 14.42 | 17.40 | 7.89
7.80-7.90 | 220.9-223.7 | 3.00 | 1.36 | 32.20 | 14.61 | 17.60 | 7.98
7.90-8.00 | 223.7-226.5 | 3.00 | 1.36 | 32.60 | 14.79 | 17.80 | 8.07

IV. Summary and Request for Comments

Through this notice, DOE grants Whirlpool an interim waiver from the specified portions of the test procedure applicable to certain basic models of residential clothes washer with capacities larger than 6.0 cubic feet and announces receipt of Whirlpool's petition for waiver from those same portions of the test procedure. DOE is publishing Whirlpool's petition for waiver pursuant to 10 CFR 430.27(b)(1)(iv). The petition includes a suggested alternate test procedure to determine the energy consumption of Whirlpool's specified basic models of residential clothes washer with capacities larger than 6.0 cubic feet. Whirlpool is required to follow this alternate procedure, as corrected by DOE in Section III of this notice, as a condition of its interim waiver, and DOE is considering including the corrected alternate procedure in its subsequent Decision and Order.

DOE solicits comments from interested parties on all aspects of the petition, including the suggested alternate test procedure and calculation methodology. Pursuant to 10 CFR 430.27(d), any person submitting written comments to DOE must also send a copy of such comments to the petitioner. The contact information for the petitioner is Sean Southard, Senior Analyst, Regulatory Affairs, Whirlpool Corporation, 2000 N. M63—MD 1604, Benton Harbor, MI 49022. All comment submissions to DOE must include the Case Number CW-026 for this proceeding. Submit electronic comments in Microsoft Word, Portable Document Format (PDF), or text (American Standard Code for Information Interchange (ASCII)) file format and avoid the use of special characters or any form of encryption. Wherever possible, include the electronic signature of the author. DOE does not accept telefacsimiles (faxes).

Issued in Washington, DC, on December 9, 2015.
Kathleen Hogan,
Deputy Assistant Secretary for Energy Efficiency, Energy Efficiency and Renewable Energy.

Whirlpool Corporation

ADMINISTRATIVE CENTER

2000 N. M63—MD 1604

BENTON HARBOR, MI 49022

269.923.7258

November 9, 2015

Via Email: AS_Waiver_Requests@ee.doe.gov

Assistant Secretary for Conservation and Renewable Energy

U.S. Department of Energy

Building Technologies Program, Test Procedure Waiver

1000 Independence Avenue SW

Washington, DC 20585

John.Cymbalski@ee.doe.gov

Re: Petition for Waiver & Application for Interim Waiver Regarding Measurement of Energy Consumption of Residential Clothes Washers, Using 10 CFR part 430, subpart B, Appendix J2

Whirlpool Corporation (“Whirlpool”) is submitting this Petition for Waiver (“Waiver”), and Application for Interim Waiver (“Interim Waiver”), pursuant to 10 CFR 430.27, regarding the Department of Energy (“DOE”) Test Procedures for energy and water consumption of clothes washers.

Whirlpool requests that DOE grant Whirlpool a Waiver and Interim Waiver from certain parts of the DOE 10 CFR 430, Subpart B, Appendix J2 test procedure for determining residential clothes washer energy consumption, and that DOE allow Whirlpool to test its clothes washers pursuant to the modified Appendix J2 table submitted in this Petition. The J2 test procedure does not allow for the testing of clothes washer container volumes beyond 6.0 cubic feet, as indicated in Table 5.1 of the Appendix J2 test procedure, and described in the Final Guidance for “How are large-capacity clothes washers tested, rated, and certified?” issued by DOE on May 29, 2012. Without a DOE grant of a Waiver and Interim Waiver, Whirlpool will not be able to introduce new, innovative large capacity clothes washers to consumers demanding them in the market.

Whirlpool submits that the proposed modified Appendix J2 table is fully consistent with the approach used in previous (and currently expired) clothes washer waiver petitions that extrapolated existing container volumes and load sizes in a modified Table 5.1 in Appendix J1 to allow for the testing of clothes washers with container volumes between 3.8 cubic feet and 6.0 cubic feet. These waivers were granted on several occasions to multiple companies before the May 2012 Final Guidance was issued by DOE to modify Table 5.1 in Appendix J1 to allow for the testing of clothes washers between 3.8 cubic feet and 6.0 cubic feet. Whirlpool now proposes to modify Table 5.1 in Appendix J2 to accommodate the testing of clothes washers with measured capacities between 6.0 cubic feet and 8.0 cubic feet. Whirlpool notes that this request is consistent with DOE's authority to grant a Waiver. Whirlpool further submits that it is within the DOE's authority to grant an Interim Waiver to avoid economic hardship and competitive disadvantage for Whirlpool.

1. Whirlpool Corporation

Whirlpool Corporation is the number one major appliance manufacturer in the world, with approximately $20 billion in annual sales, 100,000 employees and 70 manufacturing and technology research centers throughout the world in 2014. The company markets Whirlpool, KitchenAid, Maytag, Consul, Brastemp, Amana, Bauknecht, Jenn-Air, Indesit and other major brand names in more than 170 countries. Whirlpool's worldwide headquarters are located at 2000 North M-63, Benton Harbor, Michigan, USA. Additional information about the company can be found at WhirlpoolCorp.com, or find us on Twitter at @WhirlpoolCorp.

2. Basic Models Subject To The Waiver Request

This Petition For Waiver and Application For Interim Waiver is for all basic models of residential clothes washers manufactured by Whirlpool Corporation that have a measured Appendix J2 container volume equal to or greater than 6.0 cubic feet and equal to or less than 8.0 cubic feet.

Specific Basic Models are:

Basic Model V15EAg50(3B)

Basic Model V15EBg50(3B)

Basic Model V15ECg50(3B)

3. Requested Waiver

Whirlpool requests approval to test the energy and water consumption of the above residential clothes washers basic models using the modified table found in Exhibit A for the Appendix J2 clothes washer test procedure.

Market conditions, including strong consumer demand for large capacity residential washers, have led Whirlpool to design clothes washers with volumes greater than 6.0 cubic feet. DOE has recognized this in the past when previous prevailing market conditions led manufacturers to design residential washers beyond 3.8 cubic feet, and DOE has granted multiple waivers to multiple manufacturers to accommodate their request to modify Table 5.1 to allow for the testing of these larger capacity washers between 3.8 cubic feet and 6.0 cubic feet.

Whirlpool's proposed modified Table 5.1 is attached at Exhibit A. This modified table extrapolates load sizes for washers with container volumes between 6.0 cubic feet and 8.0 cubic feet, based on the linear equations used in the existing Table 5.1 for load sizes used with basket volumes up to 6.0 cubic feet. This is similar to the approach that other manufacturers have used in previous waiver petitions to extrapolate load sizes for container volumes between 3.8 cubic feet and 6.0 cubic feet, and modify Table 5.1 in Appendix J1.²

² See Federal Register/Vol. 76, No. 246/79666-79669 and Federal Register/Vol. 75, No. 219/69653-69655

4. Regulatory Framework

DOE's regulations, found in 10 CFR part 430.27, provide that the Assistant Secretary will grant a Petition to a manufacturer upon “determin[ation] that the basic model for which the waiver was requested contains a design characteristic which either prevents testing of the basic model according to the prescribed test procedures, or the prescribed test procedures may evaluate the basic model in a manner so unrepresentative of its true energy consumption characteristics as to provide materially inaccurate comparative data.”

Whirlpool believes that this Petition meets both conditions stated above for when DOE will grant a Petition. First, Table 5.1 of Appendix J2 defines test load sizes as linear functions of the container volume, but the Table only lists basket volumes up to 6.0 cubic feet. As a result, Whirlpool's new large capacity residential washer basic models listed above cannot be currently tested to the prescribed test procedure. Second, if Whirlpool were to test its large capacity residential washers listed above to the current load sizes listed under the container volume limit of 5.9-6.0 cubic foot, the results of that energy and water test would be unrepresentative of the true energy consumption characteristics of these new models by underestimating their energy use.

5. Other Manufacturers With Similar Design Characteristics

To the best of our knowledge, Whirlpool is not aware of other manufacturers offering residential clothes washers with a measured container volume greater than or equal to 6.0 cubic feet.

6. Additional Justification For Interim Waiver Application

Granting of an Interim Waiver is justified in this case because: (i) Whirlpool has provided strong evidence that demonstrates the likelihood of the granting of the Petition for Waiver; (ii) Whirlpool will suffer significant economic hardship and competitive disadvantage if this Interim Waiver Application is not granted; and (iii) an Interim Waiver is desirable for public policy reasons.

a. Strong Likelihood That Waiver Will Be Granted

Whirlpool has provided strong evidence that the Waiver should be granted. A Petition for Waiver is appropriate because these large capacity washers with measured container volumes above 6.0 cubic feet contain a design characteristic (container volumes beyond those listed in Table 5.1 of Appendix J2) that prevents testing of these models according to the Appendix J2 test procedure. Also, using the existing largest container volume listed in Table 5.1 of Appendix J2 (5.9-6.0 cubic feet), would provided a tested energy consumption characteristic that is unrepresentative of the true energy consumption of the models.

Whirlpool has provided ample information in this Petition for Waiver and Application for Interim Waiver explaining its rationale for using the modified Table 5.1 found in Exhibit A. Whirlpool has demonstrated that such a modified Table is consistent with past waiver approaches that other manufacturers have taken to receive DOE waivers for container volumes between 3.8 cubic feet and 6.0 cubic feet before Table 5.1 in Appendix J1 was recently revised.

b. Economic Hardship & Competitive Disadvantage

In the absence of an Interim Waiver, Whirlpool will lack certainty as to whether it can launch these large capacity washers into the market. As mentioned before, Whirlpool predicts strong consumer demand for these large capacity washers, and the inability to bring them to market through denial of an Interim Waiver will cause economic hardship and competitive disadvantage for Whirlpool.

There are long lead times and significant expenses associated with the design and manufacture of residential clothes washers. Compliance with federally mandated energy and water consumption standards is a critical design factor for all of Whirlpool's washers. Any delay in obtaining clarity on this issue will require Whirlpool to postpone key decisions regarding its investments to build, launch, and market these washers, and/or require Whirlpool to implement costly contingency plans. In the event this Waiver request is not approved, Whirlpool would not be able to move forward with the launch of these models, which would be a multi-million dollar impact to the company, potentially result in the loss of American jobs at our Clyde, OH manufacturing facility, and put us at a competitive disadvantage to competitors that market washers larger than any models we currently offer.

Further, any denial for the Interim Waiver would not only impact our large capacity washer models listed in this petition, it would also impact the matching dryers that would be sold with these washers. The washers and dryers are intended to be sold as a matching pair, with a dryer capacity in the dryer that is optimized to be used with one of our large capacity washers. If Whirlpool is not granted the Interim Waiver, we would be forced to do two things: (i) postpone the launch of these dryers until a waiver is granted for the matching large capacity washers, or (ii) sell large capacity dryers in the market without a matching washer. If we postpone the launch, this would be a significant business disruption, resulting in a multi-million dollar impact to the company and put American jobs at risk at our Marion, OH manufacturing facility. If we sell these dryers in the market without their matching washer, we would expect significantly lower sales of the dryer than we would otherwise expect with the matching washer on the market. Most dryers are sold with a matching washer, for various reasons, and many consumers would not want to purchase a non-matching washer and this dryer. There would also be unused capacity and potentially wasted energy in the dryer, since its capacity is optimized to be used with the large capacity matching washer.

c. An Interim Waiver is Desirable for Public Policy Reasons

It would be desirable for public policy reasons to grant immediate relief by granting an Interim Waiver. It would immediately make available to the public the largest capacity residential clothes washers available on the market. For many consumers that purchase this washer, this would mean more clothing items that can be washed in a single load. For those consumers that maximize the clothes washer capacity, this equates to fewer loads per year, which is less water and energy use compared to the alternative of smaller and more frequent loads.

Not granting the waiver would also potentially put U.S. jobs at our manufacturing facilities in Clyde, OH and Marion, OH at risk, if Whirlpool cannot launch these large capacity washers and dryers. Whirlpool employs 3,000 people at the washer manufacturing facility in Clyde, OH and 2,500 people at the dryer manufacturing facility in Marion, OH.

7. CERTIFICATION OF NOTICE TO OTHER MANUFACTURERS

Whirlpool Corporation is providing concurrent notice of this Petition for Waiver & Application for Interim Waiver to the other known manufacturers of residential clothes washers made or sold in the U.S., and to the Association of Home Appliance Manufacturers. The cover letters, including names and addresses of other known manufacturers and the industry association, is included in Exhibit B.

8. CONCLUSION

Whirlpool respectfully submits that the DOE grant the above Petition for Waiver and Interim Waiver. By granting this Waiver, DOE will ensure that consumers will have access to new, innovative large capacity residential washers and Whirlpool will avoid economic hardship and competitive disadvantage.

Thank you in advance for your consideration and prompt response.

Sincerely,

Sean Southard

Senior Analyst, Regulatory Affairs

Whirlpool Corporation

Exhibit A: Modified Table 5.1—Test Load Sizes—10 CFR 430, Subpart B, Appendix J2
Container volume: cu. ft. ≥ < | Container volume: liter ≥ < | Minimum load: lb | Minimum load: kg | Maximum load: lb | Maximum load: kg | Average load: lb | Average load: kg
0-0.80 | 0-22.7 | 3.00 | 1.36 | 3.00 | 1.36 | 3.00 | 1.36
0.80-0.90 | 22.7-25.5 | 3.00 | 1.36 | 3.50 | 1.59 | 3.25 | 1.47
0.90-1.00 | 25.5-28.3 | 3.00 | 1.36 | 3.90 | 1.77 | 3.45 | 1.56
1.00-1.10 | 28.3-31.1 | 3.00 | 1.36 | 4.30 | 1.95 | 3.65 | 1.66
1.10-1.20 | 31.1-34.0 | 3.00 | 1.36 | 4.70 | 2.13 | 3.85 | 1.75
1.20-1.30 | 34.0-36.8 | 3.00 | 1.36 | 5.10 | 2.31 | 4.05 | 1.84
1.30-1.40 | 36.8-39.6 | 3.00 | 1.36 | 5.50 | 2.49 | 4.25 | 1.93
1.40-1.50 | 39.6-42.5 | 3.00 | 1.36 | 5.90 | 2.68 | 4.45 | 2.02
1.50-1.60 | 42.5-45.3 | 3.00 | 1.36 | 6.40 | 2.90 | 4.70 | 2.13
1.60-1.70 | 45.3-48.1 | 3.00 | 1.36 | 6.80 | 3.08 | 4.90 | 2.22
1.70-1.80 | 48.1-51.0 | 3.00 | 1.36 | 7.20 | 3.27 | 5.10 | 2.31
1.80-1.90 | 51.0-53.8 | 3.00 | 1.36 | 7.60 | 3.45 | 5.30 | 2.40
1.90-2.00 | 53.8-56.6 | 3.00 | 1.36 | 8.00 | 3.63 | 5.50 | 2.49
2.00-2.10 | 56.6-59.5 | 3.00 | 1.36 | 8.40 | 3.81 | 5.70 | 2.59
2.10-2.20 | 59.5-62.3 | 3.00 | 1.36 | 8.80 | 3.99 | 5.90 | 2.68
2.20-2.30 | 62.3-65.1 | 3.00 | 1.36 | 9.20 | 4.17 | 6.10 | 2.77
2.30-2.40 | 65.1-68.0 | 3.00 | 1.36 | 9.60 | 4.35 | 6.30 | 2.86
2.40-2.50 | 68.0-70.8 | 3.00 | 1.36 | 10.00 | 4.54 | 6.50 | 2.95
2.50-2.60 | 70.8-73.6 | 3.00 | 1.36 | 10.50 | 4.76 | 6.75 | 3.06
2.60-2.70 | 73.6-76.5 | 3.00 | 1.36 | 10.90 | 4.94 | 6.95 | 3.15
2.70-2.80 | 76.5-79.3 | 3.00 | 1.36 | 11.30 | 5.13 | 7.15 | 3.24
2.80-2.90 | 79.3-82.1 | 3.00 | 1.36 | 11.70 | 5.31 | 7.35 | 3.33
2.90-3.00 | 82.1-85.0 | 3.00 | 1.36 | 12.10 | 5.49 | 7.55 | 3.42
3.00-3.10 | 85.0-87.8 | 3.00 | 1.36 | 12.50 | 5.67 | 7.75 | 3.52
3.10-3.20 | 87.8-90.6 | 3.00 | 1.36 | 12.90 | 5.85 | 7.95 | 3.61
3.20-3.30 | 90.6-93.4 | 3.00 | 1.36 | 13.30 | 6.03 | 8.15 | 3.70
3.30-3.40 | 93.4-96.3 | 3.00 | 1.36 | 13.70 | 6.21 | 8.35 | 3.79
3.40-3.50 | 96.3-99.1 | 3.00 | 1.36 | 14.10 | 6.40 | 8.55 | 3.88
3.50-3.60 | 99.1-101.9 | 3.00 | 1.36 | 14.60 | 6.62 | 8.80 | 3.99
3.60-3.70 | 101.9-104.8 | 3.00 | 1.36 | 15.00 | 6.80 | 9.00 | 4.08
3.70-3.80 | 104.8-107.6 | 3.00 | 1.36 | 15.40 | 6.99 | 9.20 | 4.17
3.80-3.90 | 107.6-110.4 | 3.00 | 1.36 | 15.80 | 7.16 | 9.40 | 4.26
3.90-4.00 | 110.4-113.3 | 3.00 | 1.36 | 16.20 | 7.34 | 9.60 | 4.35
4.00-4.10 | 113.3-116.1 | 3.00 | 1.36 | 16.60 | 7.53 | 9.80 | 4.45
4.10-4.20 | 116.1-118.9 | 3.00 | 1.36 | 17.00 | 7.72 | 10.00 | 4.54
4.20-4.30 | 118.9-121.8 | 3.00 | 1.36 | 17.40 | 7.90 | 10.20 | 4.63
4.30-4.40 | 121.8-124.6 | 3.00 | 1.36 | 17.80 | 8.09 | 10.40 | 4.72
4.40-4.50 | 124.6-127.4 | 3.00 | 1.36 | 18.20 | 8.27 | 10.60 | 4.82
4.50-4.60 | 127.4-130.3 | 3.00 | 1.36 | 18.70 | 8.46 | 10.85 | 4.91
4.60-4.70 | 130.3-133.1 | 3.00 | 1.36 | 19.10 | 8.65 | 11.05 | 5.00
4.70-4.80 | 133.1-135.9 | 3.00 | 1.36 | 19.50 | 8.83 | 11.25 | 5.10
4.80-4.90 | 135.9-138.8 | 3.00 | 1.36 | 19.90 | 9.02 | 11.45 | 5.19
4.90-5.00 | 138.8-141.6 | 3.00 | 1.36 | 20.30 | 9.20 | 11.65 | 5.28
5.00-5.10 | 141.6-144.4 | 3.00 | 1.36 | 20.70 | 9.39 | 11.85 | 5.38
5.10-5.20 | 144.4-147.2 | 3.00 | 1.36 | 21.10 | 9.58 | 12.05 | 5.47
5.20-5.30 | 147.2-150.1 | 3.00 | 1.36 | 21.50 | 9.76 | 12.25 | 5.56
5.30-5.40 | 150.1-152.9 | 3.00 | 1.36 | 21.90 | 9.95 | 12.45 | 5.65
5.40-5.50 | 152.9-155.7 | 3.00 | 1.36 | 22.30 | 10.13 | 12.65 | 5.75
5.50-5.60 | 155.7-158.6 | 3.00 | 1.36 | 22.80 | 10.32 | 12.90 | 5.84
5.60-5.70 | 158.6-161.4 | 3.00 | 1.36 | 23.20 | 10.51 | 13.10 | 5.93
5.70-5.80 | 161.4-164.2 | 3.00 | 1.36 | 23.60 | 10.69 | 13.30 | 6.03
5.80-5.90 | 164.2-167.1 | 3.00 | 1.36 | 24.00 | 10.88 | 13.50 | 6.12
5.90-6.00 | 167.1-169.9 | 3.00 | 1.36 | 24.40 | 11.06 | 13.70 | 6.21
6.00-6.10 | 169.9-172.7 | 3.00 | 1.36 | 24.80 | 11.25 | 13.90 | 6.30
6.10-6.20 | 172.7-175.6 | 3.00 | 1.36 | 25.20 | 11.43 | 14.10 | 6.40
6.20-6.30 | 175.6-178.4 | 3.00 | 1.36 | 25.60 | 11.61 | 14.30 | 6.49
6.30-6.40 | 178.4-181.2 | 3.00 | 1.36 | 26.00 | 11.79 | 14.50 | 6.58
6.40-6.50 | 181.2-184.1 | 3.00 | 1.36 | 26.40 | 11.97 | 14.70 | 6.67
6.50-6.60 | 184.1-186.9 | 3.00 | 1.36 | 26.90 | 12.20 | 15.10 | 6.85
6.60-6.70 | 186.9-189.7 | 3.00 | 1.36 | 27.30 | 12.38 | 15.30 | 6.94
6.70-6.80 | 189.7-192.6 | 3.00 | 1.36 | 27.70 | 12.56 | 15.50 | 7.03
6.80-6.90 | 192.6-195.4 | 3.00 | 1.36 | 28.10 | 12.75 | 15.70 | 7.12
6.90-7.00 | 195.4-198.2 | 3.00 | 1.36 | 28.50 | 12.93 | 15.90 | 7.21
7.00-7.10 | 198.2-201.0 | 3.00 | 1.36 | 28.90 | 13.11 | 16.10 | 7.30
7.10-7.20 | 201.0-203.9 | 3.00 | 1.36 | 29.30 | 13.29 | 16.30 | 7.39
7.20-7.30 | 203.9-206.7 | 3.00 | 1.36 | 29.70 | 13.47 | 16.50 | 7.48
7.30-7.40 | 206.7-209.5 | 3.00 | 1.36 | 30.10 | 13.65 | 16.70 | 7.57
7.40-7.50 | 209.5-212.4 | 3.00 | 1.36 | 30.50 | 13.83 | 16.90 | 7.67
7.50-7.60 | 212.4-215.2 | 3.00 | 1.36 | 31.00 | 14.06 | 17.30 | 7.85
7.60-7.70 | 215.2-218.0 | 3.00 | 1.36 | 31.40 | 14.24 | 17.50 | 7.94
7.70-7.80 | 218.0-220.9 | 3.00 | 1.36 | 31.80 | 14.42 | 17.70 | 8.03
7.80-7.90 | 220.9-223.7 | 3.00 | 1.36 | 32.20 | 14.61 | 17.90 | 8.12
7.90-8.00 | 223.7-226.5 | 3.00 | 1.36 | 32.60 | 14.79 | 18.10 | 8.21

Exhibit B: Notice to Manufacturers

November 9, 2015

Alliance Laundry Systems, LLC

Attn: Andrew Huerth

PO Box 990

Shepard Street Ripon, WI 54971

Association of Home Appliance Manufacturers

Attn: Jennifer Cleary

1111 19th Street NW., Suite 402

Washington, DC 20036

Arcelik A.S.

Attn: Salih Zeki Bugay

125 W Tremont Ave #1134

Charlotte, NC 28203

Asko Appliances AB

Attn: Jonas Lidberg

Socerbruksgatan 3SE-531 40

Lidköping, Sweden

Avanti Products

10880 NW 30th Street

Miami, FL 33172

Bosch Home Appliances Corporation

Attn: Michelle Buranday

1901 Main St

Irvine, CA 92614

Danby Products, Inc.

PO Box 669

Findlay, OH 45839-0669

Electrolux Home Products

Attn: George Hawranko

10200 David Taylor Dr Rm TKY435

Charlotte, NC 28262

Fisher & Paykel Appliances Inc.

Attn: Laurence Mawhinney

695 Town Center Dr Ste 180

Costa Mesa, CA 92626

General Electric Company

Attn: Earl F. Jones

4000 Buechel Bank Road AP2-225

Louisville, KY 40225

Haier America

Attn: Michelangelo Troisi

1800 Valley Rd

Wayne, NJ 07470

LG Electronics USA, Inc.

Attn: John I. Taylor

2000 Millbrook Dr

Lincolnshire, IL 60069

Miele, Inc.

Attn: Steve Polinski

9 Independence Way

Princeton, NJ 08450

Samsung Electronics America, Inc.

Attn: Doug Czerwonka

85 Challenger Rd

Ridgefield Park, NJ 07660

Versonel

180 Earland Drive

Building #8

New Holland, PA 17557

Re: Petition for Waiver & Application for Interim Waiver Regarding Measurement of Energy Consumption of Residential Clothes Washers, Using 10 CFR part 430, subpart B, Appendix J2

Dear Madam or Sir:

Whirlpool Corporation (“Whirlpool”) is submitting the enclosed Petition for Waiver and Application for Interim Waiver (pursuant to 10 CFR 430.27) to the US Department of Energy (“DOE”), relating to the Test Procedures for energy and water consumption of clothes washers. This letter provides notice to other known manufacturers of similar products. The DOE Assistant Secretary for Conservation and Renewable Energy will receive and consider timely written comments on the Petition for Waiver and Application for Interim Waiver. Any manufacturer submitting written comments should provide a copy to Whirlpool Corporation at the address shown below.

Whirlpool Corporation

Attn: Sean Southard

Senior Analyst, Regulatory Affairs

2000 M-63 North, MD1604

Benton Harbor, MI 49022

Fax: 269/923-7258

Email: sean_m_southard@whirlpool.com

[FR Doc. 2015-31623 Filed 12-15-15; 8:45 am]

BILLING CODE 6450-01-P